ENVIRONMENTAL PROTECTION AGENCY

40 CFR Part 52

[EPA-R09-OAR-2021-0242; FRL-8725-02-R9]

Air Plan Approval; Nevada, Las Vegas Valley; Second 10-Year Carbon Monoxide Limited Maintenance Plan

AGENCY: Environmental Protection Agency (EPA).

ACTION: Final rule.

SUMMARY: The Environmental Protection Agency (EPA) is taking final action to approve a Nevada State Implementation Plan (SIP) revision submitted by the Nevada Department of Environmental Protection (NDEP). On September 27, 2010, the EPA redesignated the Las Vegas Valley area from nonattainment to attainment for the carbon monoxide (CO) national ambient air quality standard (NAAQS) and approved the State's CO maintenance plan ensuring the area would maintain the NAAQS for ten years through 2020. On June 18, 2019, NDEP submitted to the EPA a second 10-year limited maintenance plan for the Las Vegas Valley area that addresses maintenance of the CO NAAQS for a second 10-year period ending December 31, 2030.

DATES: This rule is effective on November 22, 2021.

ADDRESSES: The EPA has established a docket for this action under Docket ID No. EPA-R09-OAR-2021-0242. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: John J. Kelly, Air Planning Office (AIR-2), EPA Region IX, (415) 947-4151, kelly.johnj@epa.gov.

SUPPLEMENTARY INFORMATION: Throughout this document, “we,” “us,” and “our” refer to the EPA.

Table of Contents

I. Summary of Proposed Action

II. Public Comments

III. Final Action

IV. Statutory and Executive Order Reviews

I. Summary of Proposed Action

On August 2, 2021, under Clean Air Act (CAA or “Act”) section 110(k)(3), the EPA proposed to approve the “Second 10-Year Carbon Monoxide Limited Maintenance Plan: Las Valley Maintenance Area, Clark County, Nevada (May 2019)” (“2019 LMP” or “Plan”) submitted by NDEP on June 18, 2019, as a revision to the Nevada SIP.¹ In so doing, we found that the 2019 LMP adequately demonstrates that the area will maintain the CO NAAQS through the end of the second ten-year period of the maintenance period. We are taking final action to approve the 2019 LMP because it meets all applicable requirements under CAA sections 110 and 175A.

¹ See 86 FR 41416. NDEP submitted the 2019 LMP electronically to the EPA on June 18, 2019. NDEP's transmittal letter for the 2019 LMP is dated June 13, 2019.

Specific requirements of LMPs and the rationale for the EPA's proposed actions are discussed in the notice of proposed rulemaking and will not be restated here. Please see our August 2, 2021 proposed rule for background on this action and the rationale for approval of the 2019 LMP.

II. Public Comments

Our August 2, 2021 proposed rule provided a 30-day public comment period that closed on September 1, 2021. We received no comments on our proposed action.

III. Final Action

The EPA is taking final action to approve the 2019 LMP as a revision to the Nevada SIP. The EPA is approving the 2019 LMP for the reasons set forth in our August 2, 2021 proposed rule and because the Plan is consistent with the requirements of the CAA.

IV. Statutory and Executive Order Reviews

Under the CAA, the Administrator is required to approve a SIP submission that complies with the provisions of the Act and applicable Federal regulations. 42 U.S.C. 7410(K); 40 CFR 52.02(a). Thus, in reviewing SIP submissions, EPA's role is to approve state choices, provided that they meet the criteria of the Clean Air Act. Accordingly, this action merely approves state law as meeting Federal requirements and does not impose additional requirements beyond those imposed by state law. Additional information about these statutes and Executive orders can be found at https://www.epa.gov/laws-regulations/laws-and-executive-orders.

A. Executive Order 12866: Regulatory Planning and Review and Executive Order 13563: Improving Regulation and Regulatory Review

This action is not a significant regulatory action and was therefore not submitted to the Office of Management and Budget for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

E. Executive Order 13132: Federalism

This action does not have federalism implications. It will not have substantial direct effects on the states, on the relationship between the National Government and the states, or on the distribution of power and responsibilities among the various levels of government.

F. Executive Order 13175: Coordination With Indian Tribal Governments

This action does not have tribal implications, as specified in Executive Order 13175, because this action does apply on any Indian reservation land or in any other area where the EPA or an Indian tribe has demonstrated that a tribe has jurisdiction, and will not impose substantial direct costs on tribal governments or preempt tribal law. The Las Vegas Valley CO maintenance area includes areas of Indian country of the Las Vegas Tribe of Paiute Indians. In those areas of Indian country, the 2019 LMP does not apply, and therefore, this action does not have tribal implications and will not impose substantial direct costs on tribal governments or preempt tribal law as specified by Executive Order 13175 (65 FR 67249, November 9, 2000).

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Populations

The EPA lacks the discretionary authority to address environmental justice in this action.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by December 21, 2021. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Carbon monoxide, Reporting and recordkeeping requirements.

Authority: 42 U.S.C. 7401 et seq.

Dated: October 13, 2021.
Deborah Jordan,
Acting Regional Administrator, Region IX.

Chapter I, title 40 of the Code of Federal Regulations is amended as follows:

PART 52—APPROVAL AND PROMULGATION OF IMPLEMENTATION PLANS

1. The authority citation for part 52 continues to read as follows:

Authority: 42 U.S.C 7401 et seq.

Subpart DD—Nevada

2. In § 52.1470(e), the table is amended by adding an entry for “Second 10-year Carbon Monoxide Limited Maintenance Plan, Las Vegas Valley Maintenance Area, Clark County, Nevada (May 2019)” after the entry for “Resolution of the Clark County Board of Commissioners Adopting the Clark County Carbon Monoxide Redesignation Request and Maintenance Plan, adopted by the Clark County Board of Commissioners on September 2, 2008” to read as follows.

§ 52.1470 Identification of plan.

* * * * *

(e) * * *

EPA-Approved Nevada Nonregulatory and Quasi-Regulatory Measures
Name of SIP provision | Applicable geographic or nonattainment area or title/subject | State submittal date | EPA approval date | Explanation
Air Quality Implementation Plans for the State of Nevada ¹
* * * * * * *
Second 10-year Carbon Monoxide Limited Maintenance Plan, Las Vegas Valley Maintenance Area, Clark County, Nevada (May 2019) | Las Vegas Valley, Clark County | June 18, 2019 | October 22, 2021, [Insert Federal Register citation] | Fulfills requirement for second ten-year maintenance plan.
* * * * * * *
* * * * * * *
¹ The organization of this table generally follows from the organization of the State of Nevada's original 1972 SIP, which was divided into 12 sections. Nonattainment and maintenance plans, among other types of plans, are listed under Section 5 (Control Strategy). Lead SIPs and Small Business Stationary Source Technical and Environmental Compliance Assistance SIPs are listed after Section 12 followed by nonregulatory or quasi-regulatory statutory provisions approved into the SIP. Regulatory statutory provisions are listed in 40 CFR 52.1470(c).

[FR Doc. 2021-22714 Filed 10-21-21; 8:45 am]

BILLING CODE 6560-50-P